COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and a service to the Procurement List that will be furnished by nonprofit agencies employing persons who are blind or have other severe disabilities, and deletes products from the Procurement List previously furnished by such agencies.

DATES: Date added to and deleted from the Procurement List: December 9, 2018.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 4/27/2018 (83 FR 82), 5/4/2018 (83 FR 87), and 9/21/2018 (83 FR 184), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN(s)—Product Name(s):

2540-01-454-0415—Blade, Refill, Windshield Wiper, HMMW Vehicle, 20″L

2540-01-377-3125—Arm, Windshield Wiper, HMMW Vehicle, 20″L

2540-01-271-8026—Blade, Windshield Wiper, HMMW Vehicle, 16″L

2540-01-262-7708—Blade, Windshield Wiper, HMMW Vehicle, 20″L

2540-00-248-4603—Blade, Windshield Wiper, HMMW Vehicle, 18″L

Mandatory Source of Supply: Center for the Visually Impaired Foundation, Inc., Atlanta, GA

Mandatory for: 100% of the requirement of the Department of Defense

Contracting Activity: Defense Logistics Agency Land and Maritime

Distribution: C-List

NSN(s)—Product Name(s): 5975-00-985-6630—Strap, Tie Down, Electrical Component

Mandatory for: Broad Government Requirement

Mandatory Source of Supply: North Central Sight Services, Inc., Williamsport, PA

Contracting Activity: Defense Logistics Agency Aviation

Distribution: B-List

Service

Service Type: Mailroom Service

Mandatory for: Centers for Disease Control & Prevention National Center for Health Statistics 3311 Toledo Road, Hyattsville, MD

Mandatory Source of Supply: ServiceSource, Inc., Oakton, VA

Contracting Activity: Centers for Disease Control and Prevention, CDC—Pittsburg

Deletions

On 10/5/2018 (83 FR 194), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s):

8410-00-NIB-0002 Coat, Airman's Battle Uniform, USAF, Woman's, Camouflage, 2 Long

8410-00-NIB-0003 Coat, Airman's Battle Uniform, USAF, Woman's, Camouflage, 4 Long

8410-00-NIB-0004 Coat, Airman's Battle Uniform, USAF, Woman's, Camouflage, 18 X-Short

8410-00-NIB-0005 Coat, Airman's Battle Uniform, USAF, Woman's, Camouflage, 20 X-Short

8410-00-NIB-0006 Coat, Airman's Battle Uniform, USAF, Woman's, Camouflage, 20 Short

8410-00-NIB-0007 Coat, Airman's Battle Uniform, USAF, Woman's, Camouflage, 20 Long

8410-01-536-2974 Coat, Airman's Battle Uniform, USAF, Woman's, Camouflage, 2 Short

8410-01-536-2977 Coat, Airman's Battle Uniform, USAF, Woman's, Camouflage, 2 Regular

8410-01-536-2980 Coat, Airman's Battle Uniform, USAF, Woman's, Camouflage, 4 X-Short

8410-01-536-2982 Coat, Airman's Battle Uniform, USAF, Woman's, Camouflage, 4 Short

8410-01-536-2994 Coat, Airman's Battle Uniform, USAF, Woman's, Camouflage, 4 Regular

8410-01-536-3000 Coat, Airman's Battle Uniform, USAF, Woman's, Camouflage, 6 X-Short

8410-01-536-3760 Coat, Airman's Battle Uniform, USAF, Woman's, Camouflage, 6 Short

8410-01-536-3763 Coat, Airman's Battle Uniform, USAF, Woman's, Camouflage, 6 Regular

8410-01-536-3769 Coat, Airman's Battle Uniform, USAF, Woman's, Camouflage, 8 X-Short

8410-01-536-3772 Coat, Airman's Battle Uniform, USAF, Woman's, Camouflage, 8 Short

8410-01-536-3776 Coat, Airman's Battle Uniform, USAF, Woman's, Camouflage, 8 Regular

8410-01-536-3779 Coat, Airman's Battle Uniform, USAF, Woman's, Camouflage, 6 Long

8410-01-536-3782 Coat, Airman's Battle Uniform, USAF, Woman's, Camouflage, 8 Long

8410-01-536-3784 Coat, Airman's Battle Uniform, USAF, Woman's, Camouflage, 10 X-Short

8410-01-536-3787 Coat, Airman's Battle Uniform, USAF, Woman's, Camouflage, 10 Short

8410-01-536-3789 Coat, Airman's Battle Uniform, USAF, Woman's, Camouflage, 10 Regular

8410-01-536-3792 Coat, Airman's Battle Uniform, USAF, Woman's, Camouflage, 10 Long

8410-01-536-3793 Coat, Airman's Battle Uniform, USAF, Woman's, Camouflage, 12 X-Short

8410-01-536-3795 Coat, Airman's Battle Uniform, USAF, Woman's, Camouflage, 12 Short

8410-01-536-3797 Coat, Airman's Battle Uniform, USAF, Woman's, Camouflage, 12 Regular

8410-01-536-3799 Coat, Airman's Battle Uniform, USAF, Woman's, Camouflage, 12 Long

8410-01-536-3800 Coat, Airman's Battle Uniform, USAF, Woman's, Camouflage, 14 X-Short

8410-01-536-3803 Coat, Airman's Battle Uniform, USAF, Woman's, Camouflage, 14 Short

8410-01-536-3804 Coat, Airman's Battle Uniform, USAF, Woman's, Camouflage, 14 Regular

8410-01-536-3805 Coat, Airman's Battle Uniform, USAF, Woman's, Camouflage, 14 Long

8410-01-536-3807 Coat, Airman's Battle Uniform, USAF, Woman's, Camouflage, 16 X-Short

8410-01-536-3808 Coat, Airman's Battle Uniform, USAF, Woman's, Camouflage, 16 Short

8410-01-536-3812 Coat, Airman's Battle Uniform, USAF, Woman's, Camouflage, 16 Regular

8410-01-536-3814 Coat, Airman's Battle Uniform, USAF, Woman's, Camouflage, 16 Long

8410-01-536-3816 Coat, Airman's Battle Uniform, USAF, Woman's, Camouflage, 18 Short

8410-01-536-3819 Coat, Airman's Battle Uniform, USAF, Woman's, Camouflage, 18 Regular

8410-01-536-3822 Coat, Airman's Battle Uniform, USAF, Woman's, Camouflage, 18 Long

8410-01-536-3825 Coat, Airman's Battle Uniform, USAF, Woman's, Camouflage, 20 Regular

8415-00-NIB-0489 Coat, Airman's Battle Uniform, USAF, Man's, Camouflage, 32 X-Long

8415-00-NIB-0490 Coat, Airman's Battle Uniform, USAF, Man's, Camouflage, 44 X-Short

8415-00-NIB-0491 Coat, Airman's Battle Uniform, USAF, Man's, Camouflage, 46 X-Short

8415-00-NIB-0492 Coat, Airman's Battle Uniform, USAF, Man's, Camouflage, 48 X-Short

8415-00-NIB-0493 Coat, Airman's Battle Uniform, USAF, Man's, Camouflage, 48 X-Long

8415-00-NIB-0494 Coat, Airman's Battle Uniform, USAF, Man's, Camouflage, 50 X-Long

8415-01-535-4170 Coat, Airman's Battle Uniform, USAF, Man's, Camouflage, 32 X-Short

8415-01-536-4134 Coat, Airman's Battle Uniform, USAF, Man's, Camouflage, 32 Short

8415-01-536-4170 Coat, Airman's Battle Uniform, USAF, Man's, Camouflage, 32 X-Short

8415-01-536-4178 Coat, Airman's Battle Uniform, USAF, Man's, Camouflage, 32 Regular

8415-01-536-4180 Coat, Airman's Battle Uniform, USAF, Man's, Camouflage, 32 Long

8415-01-536-4182 Coat, Airman's Battle Uniform, USAF, Man's, Camouflage, 34 X-Short

8415-01-536-4184 Coat, Airman's Battle Uniform, USAF, Man's, Camouflage, 34 Short

8415-01-536-4188 Coat, Airman's Battle Uniform, USAF, Man's, Camouflage, 34 Regular

8415-01-536-4189 Coat, Airman's Battle Uniform, USAF, Man's, Camouflage, 34 Long

8415-01-536-4192 Coat, Airman's Battle Uniform, USAF, Man's, Camouflage, 34 X-Long

8415-01-536-4193 Coat, Airman's Battle Uniform, USAF, Man's, Camouflage, 36 X-Short

8415-01-536-4197 Coat, Airman's Battle Uniform, USAF, Man's, Camouflage, 36 Short

8415-01-536-4224 Coat, Airman's Battle Uniform, USAF, Man's, Camouflage, 36 Regular

8415-01-536-4227 Coat, Airman's Battle Uniform, USAF, Man's, Camouflage, 36 Long

8415-01-536-4237 Coat, Airman's Battle Uniform, USAF, Man's, Camouflage, 36 X-Long

8415-01-536-4239 Coat, Airman's Battle Uniform, USAF, Man's, Camouflage, 38 X-Short

8415-01-536-4241 Coat, Airman's Battle Uniform, USAF, Man's, Camouflage, 38 Short

8415-01-536-4367 Coat, Airman's Battle Uniform, USAF, Man's, Camouflage, 38 Regular

8415-01-536-4369 Coat, Airman's Battle Uniform, USAF, Man's, Camouflage, 38 Long

8415-01-536-4571 Coat, Airman's Battle Uniform, USAF, Man's, Camouflage, 38 X-Long

8415-01-536-4572 Coat, Airman's Battle Uniform, USAF, Man's, Camouflage, 40 X-Short

8415-01-536-4573 Coat, Airman's Battle Uniform, USAF, Man's, Camouflage, 40 Short

8415-01-536-4574 Coat, Airman's Battle Uniform, USAF, Man's, Camouflage, 40 Regular

8415-01-536-4576 Coat, Airman's Battle Uniform, USAF, Man's, Camouflage, 40 Long

8415-01-536-4577 Coat, Airman's Battle Uniform, USAF, Man's, Camouflage, 40 X-Long

8415-01-536-4578 Coat, Airman's Battle Uniform, USAF, Man's, Camouflage, 42 X-Short

8415-01-536-4581 Coat, Airman's Battle Uniform, USAF, Man's, Camouflage, 42 Short

8415-01-536-4583 Coat, Airman's Battle Uniform, USAF, Man's, Camouflage, 42 Regular

8415-01-536-4584 Coat, Airman's Battle Uniform, USAF, Man's, Camouflage, 42 Long

8415-01-536-4585 Coat, Airman's Battle Uniform, USAF, Man's, Camouflage, 42 X-Long

8415-01-536-4586 Coat, Airman's Battle Uniform, USAF, Man's, Camouflage, 44 Short

8415-01-536-4588 Coat, Airman's Battle Uniform, USAF, Man's, Camouflage, 50 X-Short

8415-01-536-4590 Coat, Airman's Battle Uniform, USAF, Man's, Camouflage, 44 Regular

8415-01-536-4591 Coat, Airman's Battle Uniform, USAF, Man's, Camouflage, 44 Long

8415-01-536-4592 Coat, Airman's Battle Uniform, USAF, Man's, Camouflage, 44 X-Long

8415-01-536-4593 Coat, Airman's Battle Uniform, USAF, Man's, Camouflage, 46 Short

8415-01-536-4596 Coat, Airman's Battle Uniform, USAF, Man's, Camouflage, 46 Regular

8415-01-536-4600 Coat, Airman's Battle Uniform, USAF, Man's, Camouflage, 46 Long

8415-01-536-4606 Coat, Airman's Battle Uniform, USAF, Man's, Camouflage, 46 X-Long

8415-01-536-4639 Coat, Airman's Battle Uniform, USAF, Man's, Camouflage, 48 Short

8415-01-536-4640 Coat, Airman's Battle Uniform, USAF, Man's, Camouflage, 48 Regular

8415-01-536-4651 Coat, Airman's Battle Uniform, USAF, Man's, Camouflage, 48 Long

8415-01-536-4674 Coat, Airman's Battle Uniform, USAF, Man's, Camouflage, 50 Short

8415-01-536-4682 Coat, Airman's Battle Uniform, USAF, Man's, Camouflage, 50 Regular

8415-01-536-4712 Coat, Airman's Battle Uniform, USAF, Man's, Camouflage, 50 Long

8410-00-NIB-0008 Trousers, Airman's Battle Uniform, USAF, Woman's, Camouflage, 2 X-Short

8410-00-NIB-0009 Trousers, Airman's Battle Uniform, USAF, Woman's, Camouflage, 2 Long

8410-00-NIB-0010 Trousers, Airman's Battle Uniform, USAF, Woman's, Camouflage, 18 X-Short

8410-00-NIB-0011 Trousers, Airman's Battle Uniform, USAF, Woman's, Camouflage, 20 X-Short

8410-00-NIB-0012 Trousers, Airman's Battle Uniform, USAF, Woman's, Camouflage, 20 Short

8410-00-NIB-0015 Trousers, Airman's Battle Uniform, USAF, Woman's, Camouflage, 4 Long

8410-00-NIB-0016 Trousers, Airman's Battle Uniform, USAF, Woman's, Camouflage, 22 X-Short

8410-00-NIB-0017 Trousers, Airman's Battle Uniform, USAF, Woman's, Camouflage, 22 Short

8410-01-536-2711 Trousers, Airman's Battle Uniform, USAF, Woman's, Camouflage, 2 Regular

8410-01-536-2714 Trousers, Airman's Battle Uniform, USAF, Woman's, Camouflage, 4 X-Short

8410-01-536-2715 Trousers, Airman's Battle Uniform, USAF, Woman's, Camouflage, 4 Regular

8410-01-536-2718 Trousers, Airman's Battle Uniform, USAF, Woman's, Camouflage, 6 X-Short

8410-01-536-2719 Trousers, Airman's Battle Uniform, USAF, Woman's, Camouflage, 6 Short

8410-01-536-2720 Trousers, Airman's Battle Uniform, USAF, Woman's, Camouflage, 6 Regular

8410-01-536-2721 Trousers, Airman's Battle Uniform, USAF, Woman's, Camouflage, 6 Long

8410-01-536-2723 Trousers, Airman's Battle Uniform, USAF, Woman's, Camouflage, 8 X-Short

8410-01-536-2725 Trousers, Airman's Battle Uniform, USAF, Woman's, Camouflage, 8 Short

8410-01-536-2734 Trousers, Airman's Battle Uniform, USAF, Woman's, Camouflage, 8 Regular

8410-01-536-2736 Trousers, Airman's Battle Uniform, USAF, Woman's, Camouflage, 8 Long

8410-01-536-2739 Trousers, Airman's Battle Uniform, USAF, Woman's, Camouflage, 10 X-Short

8410-01-536-2740 Trousers, Airman's Battle Uniform, USAF, Woman's, Camouflage, 10 Short

8410-01-536-2742 Trousers, Airman's Battle Uniform, USAF, Woman's, Camouflage, 10 Regular

8410-01-536-2744 Trousers, Airman's Battle Uniform, USAF, Woman's, Camouflage, 10 Long

8410-01-536-2746 Trousers, Airman's Battle Uniform, USAF, Woman's, Camouflage, 12 X-Short

8410-01-536-2748 Trousers, Airman's Battle Uniform, USAF, Woman's, Camouflage, 12 Short

8410-01-536-2749 Trousers, Airman's Battle Uniform, USAF, Woman's, Camouflage, 12 Regular

8410-01-536-2752 Trousers, Airman's Battle Uniform, USAF, Woman's, Camouflage, 12 Long

8410-01-536-2754 Trousers, Airman's Battle Uniform, USAF, Woman's, Camouflage, 14 X-Short

8410-01-536-2756 Trousers, Airman's Battle Uniform, USAF, Woman's, Camouflage, 14 Short

8410-01-536-2760 Trousers, Airman's Battle Uniform, USAF, Woman's, Camouflage, 14 Regular

8410-01-536-2761 Trousers, Airman's Battle Uniform, USAF, Woman's, Camouflage, 14 Long

8410-01-536-2765 Trousers, Airman's Battle Uniform, USAF, Woman's, Camouflage, 16 X-Short

8410-01-536-2766 Trousers, Airman's Battle Uniform, USAF, Woman's, Camouflage, 16 Short

8410-01-536-2770 Trousers, Airman's Battle Uniform, USAF, Woman's, Camouflage, 16 Regular

8410-01-536-2771 Trousers, Airman's Battle Uniform, USAF, Woman's, Camouflage, 16 Long

8410-01-536-2773 Trousers, Airman's Battle Uniform, USAF, Woman's, Camouflage, 18 Short

8410-01-536-2774 Trousers, Airman's Battle Uniform, USAF, Woman's, Camouflage, 18 Regular

8410-01-536-2778 Trousers, Airman's Battle Uniform, USAF, Woman's, Camouflage, 18 Long

8410-01-536-2780 Trousers, Airman's Battle Uniform, USAF, Woman's, Camouflage, 20 Regular

8410-01-536-2783 Trousers, Airman's Battle Uniform, USAF, Woman's, Camouflage, 20 Long

8410-01-536-2785 Trousers, Airman's Battle Uniform, USAF, Woman's, Camouflage, 22 Regular

8410-01-536-2801 Trousers, Airman's Battle Uniform, USAF, Woman's, Camouflage, 4 Short

8410-01-NIB-0014 Trousers, Airman's Battle Uniform, USAF, Woman's, Camouflage, 22 Long

8415-00-NIB-0495 Trousers, Airman's Battle Uniform, USAF, Man's, Camouflage, 42 X-Short

8415-00-NIB-0496 Trousers, Airman's Battle Uniform, USAF, Man's, Camouflage, 42 X-Long

8415-00-NIB-0497 Trousers, Airman's Battle Uniform, USAF, Man's, Camouflage, 44 X-Short

8415-00-NIB-0498 Trousers, Airman's Battle Uniform, USAF, Man's, Camouflage, 44 Long

8415-00-NIB-0499 Trousers, Airman's Battle Uniform, USAF, Man's, Camouflage, 46 X-Short

8415-00-NIB-0500 Trousers, Airman's Battle Uniform, USAF, Man's, Camouflage, 46 Short

8415-00-NIB-0501 Trousers, Airman's Battle Uniform, USAF, Man's, Camouflage, 46 X-Long

8415-00-NIB-0502 Trousers, Airman's Battle Uniform, USAF, Man's, Camouflage, 44 X-Long

8415-01-536-3759 Trousers, Airman's Battle Uniform, USAF, Man's, Camouflage, 28 Short

8415-01-536-3774 Trousers, Airman's Battle Uniform, USAF, Man's, Camouflage, 28 Regular

8415-01-536-3777 Trousers, Airman's Battle Uniform, USAF, Man's, Camouflage, 28 Long

8415-01-536-3791 Trousers, Airman's Battle Uniform, USAF, Man's, Camouflage, 28 X-Long

8415-01-536-3794 Trousers, Airman's Battle Uniform, USAF, Man's, Camouflage, 30 Short

8415-01-536-3809 Trousers, Airman's Battle Uniform, USAF, Man's, Camouflage, 30 X-Short

8415-01-536-3817 Trousers, Airman's Battle Uniform, USAF, Man's, Camouflage, 30 Regular

8415-01-536-3821 Trousers, Airman's Battle Uniform, USAF, Man's, Camouflage, 30 Long

8415-01-536-3823 Trousers, Airman's Battle Uniform, USAF, Man's, Camouflage, 30 X-Long

8415-01-536-3826 Trousers, Airman's Battle Uniform, USAF, Man's, Camouflage, 32 X-Short

8415-01-536-3830 Trousers, Airman's Battle Uniform, USAF, Man's, Camouflage, 32 Short

8415-01-536-3833 Trousers, Airman's Battle Uniform, USAF, Man's, Camouflage, 32 Regular

8415-01-536-3836 Trousers, Airman's Battle Uniform, USAF, Man's, Camouflage, 32 Long

8415-01-536-3844 Trousers, Airman's Battle Uniform, USAF, Man's, Camouflage, 32 X-Long

8415-01-536-3846 Trousers, Airman's Battle Uniform, USAF, Man's, Camouflage, 34 X-Short

8415-01-536-3849 Trousers, Airman's Battle Uniform, USAF, Man's, Camouflage, 34 Short

8415-01-536-3855 Trousers, Airman's Battle Uniform, USAF, Man's, Camouflage, 34 Regular

8415-01-536-3869 Trousers, Airman's Battle Uniform, USAF, Man's, Camouflage, 34 Long

8415-01-536-3874 Trousers, Airman's Battle Uniform, USAF, Man's, Camouflage, 34 X-Long

8415-01-536-3880 Trousers, Airman's Battle Uniform, USAF, Man's, Camouflage, 36 X-Short

8415-01-536-3890 Trousers, Airman's Battle Uniform, USAF, Man's, Camouflage, 40 X-Short

8415-01-536-3893 Trousers, Airman's Battle Uniform, USAF, Man's, Camouflage, 36 Short

8415-01-536-3903 Trousers, Airman's Battle Uniform, USAF, Man's, Camouflage, 36 Regular

8415-01-536-3905 Trousers, Airman's Battle Uniform, USAF, Man's, Camouflage, 36 Long

8415-01-536-3912 Trousers, Airman's Battle Uniform, USAF, Man's, Camouflage, 36 X-Long

8415-01-536-3916 Trousers, Airman's Battle Uniform, USAF, Man's, Camouflage, 38 X-Short

8415-01-536-3920 Trousers, Airman's Battle Uniform, USAF, Man's, Camouflage, 38 Short

8415-01-536-3927 Trousers, Airman's Battle Uniform, USAF, Man's, Camouflage, 38 Regular

8415-01-536-3935 Trousers, Airman's Battle Uniform, USAF, Man's, Camouflage, 38 Long

8415-01-536-4021 Trousers, Airman's Battle Uniform, USAF, Man's, Camouflage, 38 X-Long

8415-01-536-4067 Trousers, Airman's Battle Uniform, USAF, Man's, Camouflage, 40 Short

8415-01-536-4071 Trousers, Airman's Battle Uniform, USAF, Man's, Camouflage, 40 Regular

8415-01-536-4073 Trousers, Airman's Battle Uniform, USAF, Man's, Camouflage, 40 Long

8415-01-536-4075 Trousers, Airman's Battle Uniform, USAF, Man's, Camouflage, 40 X-Long

8415-01-536-4077 Trousers, Airman's Battle Uniform, USAF, Man's, Camouflage, 42 Short

8415-01-536-4081 Trousers, Airman's Battle Uniform, USAF, Man's, Camouflage, 42 Regular

8415-01-536-4088 Trousers, Airman's Battle Uniform, USAF, Man's, Camouflage, 42 Long

8415-01-536-4102 Trousers, Airman's Battle Uniform, USAF, Man's, Camouflage, 44 Regular

8415-01-536-4103 Trousers, Airman's Battle Uniform, USAF, Man's, Camouflage, 44 Short

8415-01-536-4109 Trousers, Airman's Battle Uniform, USAF, Man's, Camouflage, 44 Long

8415-01-536-4111 Trousers, Airman's Battle Uniform, USAF, Man's, Camouflage, 46 Regular

8415-01-536-4121 Trousers, Airman's Battle Uniform, USAF, Man's, Camouflage, 46 Long

8410-01-536-2709 Trousers, Airman's Battle Uniform, USAF, Woman's, Camouflage, 2 Short

8415-01-536-3758 Trousers, Airman's Battle Uniform, USAF, Man's, Camouflage, 28 X-Short

Mandatory Sources of Supply: ReadyOne Industries, Inc., El Paso, TX, Blind Industries & Services of Maryland, Baltimore, MD Winston-Salem Industries for the Blind, Inc., Winston-Salem, NC, LC Industries, Inc., Durham, NC, Goodwill Industries of South Florida, Inc., Miami, FL

Contracting Activity: Defense Logistics Agency Troop Support

NSN(s)—Product Name(s): 7045-01-269-8115—Tape, Electronic Data Processing 7045-01-321-0642—Tape, Electronic Data Processing

Mandatory Source of Supply: North Central Sight Services, Inc., Williamsport, PA

Contracting Activity: Defense Logistics Agency Troop Support

NSN(s)—Product Name(s):

7110-01-657-7729—Whiteboard, Customizable Surface, Magnetic Backing, Aluminum Frame, 47.5″ x 35″

7110-01-657-7733—Whiteboard, Customizable Surface, Magnetic Backing, Aluminum Frame, 37.5″ x 23″

7110-01-657-7738—Whiteboard, Customizable Surface, Magnetic Backing, Aluminum Frame, 12″ x 20.5″

Mandatory Source of Supply: The Lighthouse for the Blind, Inc. (Seattle Lighthouse), Seattle, WA

Contracting Activity: General Services Administration, Philadelphia, PA

NSN(s)—Product Name(s): 6515-00-NIB-0227—Aloud Audio Labels

Mandatory Source of Supply: Central Association for the Blind & Visually Impaired, Utica, NY

Contracting Activity: Department of Veterans Affairs, Strategic Acquisition Center

NSN(s)—Product Name(s): 8465-00-001-6471—(Nylon cloth)

Mandatory Sources of Supply: Alabama Industries for the Blind, Talladega, AL, Georgia Industries for the Blind, Bainbridge, GA, Envision, Inc., Wichita, KS, RLCB, Inc., Raleigh, NC, PA, Virginia Industries for the Blind, Charlottesville, VA

Contracting Activity: Defense Logistics Agency Troop Support

NSN(s)—Product Name(s): 8445-01-242-1009—Necktab, Womens Shirt

Mandatory Source of Supply: BSW, Inc., Butte, MT

Contracting Activity: Defense Logistics Agency Troop Support

Michael R. Jurkowski,
Business Management Specialist, Business Operations.

[FR Doc. 2018-24583 Filed 11-8-18; 8:45 am]

BILLING CODE 6353-01-P